DEPARTMENT OF COMMERCE

National Oceanic and Atmospheric Administration

RIN 0648-XA687

New England Fishery Management Council; Public Meeting

AGENCY: National Marine Fisheries Service (NMFS), National Oceanic and Atmospheric Administration (NOAA), Commerce.

ACTION: Notice; public meeting.

SUMMARY: The New England Fishery Management Council's (Council), it's Groundfish Advisory Panel and Plan Development Team along with its Scientific and Statistical Committee will meet to consider actions affecting New England fisheries in the exclusive economic zone (EEZ).

DATES: The workshop will be held on Tuesday, October 25, 2011 at 8:30 a.m. and Wednesday, October 26, 2011 at 8:30 a.m.

ADDRESSES: The workshop will be held at the Holiday Inn By the Bay, 88 Spring Street, Portland, ME 04101; telephone: (207) 775-2311; fax: (207) 772-4017.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

The New England Fishery Management Council (NEFMC) will host a “lessons learned” workshop following a year of sector operations under the regulations initiated by the Council in Amendment 16 to the Northeast Multispecies (Groundfish) Plan. Topics to be discussed include: What elements of sector management have worked, or not, over the past year; sector annual reports; Northeast Fisheries Science Center one-year sector performance report; comparison of Amendment 16 goals and objectives vs. outcomes; and problems that have impeded sector operations, among other issues.

Following reports on sector performance and presentations from sector representatives, the Council will consider recommendations for improvements to the sector program for inclusion in its priorities discussion at the NEFMC meeting in Newport, RI in November, 2011.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: September 2, 2011.
Tracey L. Thompson,
Acting Director, Office of Sustainable Fisheries, National Marine Fisheries Service.

[FR Doc. 2011-22970 Filed 9-7-11; 8:45 am]

BILLING CODE 3510-22-P